DEPARTMENT OF COMMERCE

International Trade Administration

[C-570-083]

Certain Steel Wheels From the People's Republic of China: Postponement of Preliminary Determination in the Countervailing Duty Investigation

AGENCY: Enforcement and Compliance, International Trade Administration, Department of Commerce.

DATES: Applicable June 6, 2018.

FOR FURTHER INFORMATION CONTACT: Myrna Lobo at (202) 482-2371 or Chien-Min Yang at (202) 482-5484, AD/CVD Operations, Enforcement and Compliance, International Trade Administration, Department of Commerce, 1401 Constitution Avenue NW, Washington, DC 20230.

SUPPLEMENTARY INFORMATION:.

Background

On April 16, 2018, the Department of Commerce (Commerce) initiated the countervailing duty (CVD) investigation of certain steel wheels (steel wheels) from the People's Republic of China (China).¹ Currently, the preliminary determination is due no later than June 20, 2018.

¹ See Certain Steel Wheels from the People's Republic {of China}: Initiation of Countervailing Duty Investigation, 83 FR 17794 (April 24, 2018).

Postponement of the Preliminary Determination

Section 703(b)(1) of the Tariff Act of 1930, as amended (the Act), requires Commerce to issue the preliminary determination in a CVD investigation within 65 days after the date on which Commerce initiated the investigation. However, section 703(c)(1)(A) of the Act permits Commerce to postpone the preliminary determination until no later than 130 days after the date on which Commerce initiated the investigation if a petitioner makes a timely request for a postponement. Under 19 CFR 351.205(e), a petitioner must submit a request for postponement 25 days or more before the scheduled date of the preliminary determination and must state the reason for the request. Commerce will grant the request unless it finds compelling reasons to deny the request.²

² See 19 CFR 351.205(e).

On May 15, 2018, Accuride Corporation and Maxion Wheels Akron LLC (collectively, the petitioners) submitted a timely request pursuant to section 703(c)(1)(A) of the Act and 19 CFR 351.205(b)(2) and (e) to postpone the preliminary determination. The petitioners stated that due to the number and nature of subsidy programs under investigation, the purpose of its request was to provide Commerce with adequate time to examine the amount of subsidies received by producers and exporters of subject merchandise in China.³

³ See Letter from the petitioner to Commerce, “Certain Steel Wheels from China (C-570-083)—Petitioners' Request to Extend the Deadline for the Preliminary Determination,” dated May 15, 2018.

In accordance with 19 CFR 351.205(e), the petitioners have stated the reasons for postponement of the preliminary determination, and the record does not present any compelling reasons to deny the request. Therefore, in accordance with section 703(c)(1)(A) of the Act, Commerce is postponing the deadline for the preliminary determination to August 24, 2018. Pursuant to section 705(a)(l) of the Act and 19 CFR 351.210(b)(1), the deadline for the final determination will continue to be 75 days after the date of the preliminary determination, unless postponed at a later date.

This notice is issued and published pursuant to section 703(c)(2) of the Act and 19 CFR 351.205(f)(l).

Dated: May 31, 2018.
Gary Taverman,
Deputy Assistant Secretary for Antidumping and Countervailing Operations, performing the non-exclusive functions and duties of the Assistant Secretary for Enforcement and Compliance.

[FR Doc. 2018-12144 Filed 6-5-18; 8:45 am]

BILLING CODE 3510-DS-P